DEPARTMENT OF HOMELAND SECURITY

Coast Guard

33 CFR Part 165

[Docket No. USCG-2016-0962]

Safety Zone; Captain of the Port Boston Fireworks Display Zone, Boston Harbor, Boston, MA

AGENCY: Coast Guard, DHS.

ACTION: Notice of enforcement of regulation.

SUMMARY: The Coast Guard will enforce the subject safety zone for First Night Fireworks on December 31, 2016, to provide for the safety of life on navigable waterways during the fireworks display. Our regulation for Captain of the Port (COTP) Boston fireworks display zone, Boston Harbor, Boston, MA identifies the regulated area for this fireworks display. During the enforcement period, no vessel may transit this regulated area without approval from the COTP Boston or a designated representative.

DATES: The regulation in 33 CFR 165.119(a)(2) will be enforced Saturday, December 31, 2016 from 10 p.m. until 11:59 p.m.

FOR FURTHER INFORMATION CONTACT: If you have questions about this notice of enforcement, call or email Mark Cutter, Sector Boston Waterways Management Division, U.S. Coast Guard; telephone 617-223-4000, email Mark.E.Cutter@uscg.mil.

SUPPLEMENTARY INFORMATION: The Coast Guard will enforce the safety zone in 33 CFR 165.119(a)(2) on Saturday, December 31, 2016 from 10 p.m. until 11:59 p.m., for the First Night Fireworks in Boston Inner Harbor. This action is being taken to provide for the safety of life on navigable waterways during the fireworks display. Our regulation for COTP Boston fireworks display zone, Boston Harbor, Boston, MA, 33 CFR 165.119(a)(2), specifies the location of the regulated area as all U.S. navigable waters of Boston Inner Harbor within a 700-foot radius of the fireworks barge in the approximate position 42°21′41.2″ N. 071°02′36.5″ W. (NAD 1983), located off of Long Wharf, Boston, MA. The safety zone will include all U.S. navigable waters of Boston Inner Harbor within a 700-foot radius of the firework barge when in position. As specified in 33 CFR 165.119(e), during the enforcement period, no vessel may transit this regulated area without approval from the COTP Boston or a COTP designated representative.

This notice of enforcement is issued under authority of 33 CFR 165.119 and 5 U.S.C. 552(a). In addition to this notice of enforcement in the Federal Register, the Coast Guard plans to provide mariners with advanced notification of this enforcement period via the Local Notice to Mariners and Broadcast Notice to Mariners.

Dated: December 7, 2016.
C.C. Gelzer,
Captain, U.S. Coast Guard, Captain of the Port Boston.

[FR Doc. 2016-30313 Filed 12-16-16; 8:45 am]

BILLING CODE 9110-04-P